DEPARTMENT OF ENERGY

Federal Energy Regulatory Commission

[Docket No. CP08-91-000]

Columbia Gulf Transmission Company; Tennessee Gas Pipeline Company; Natural Gas Pipeline Company of America LLC; Notice of Application

March 20, 2008.

Take notice that on March 12, 2008, Columbia Gulf Transmission Company (Columbia Gulf), 5151 San Felipe, Suite 2500, Houston, Texas 77056, Tennessee Gas Pipeline Company (Tennessee), 1001 Louisiana Street, Houston, Texas 77002, and Natural Gas Pipeline Company of America LLC (Natural) 500 Dallas Street, Houston, Texas 77002, filed in Docket No. CP08-91-000, an application pursuant to section 7(b) of the Natural Gas Act (NGA) and Part 157 of the Commission's regulations, for authorization to abandon certain facilities located in Eugene Island, Offshore Louisiana, all as more fully set forth in the application which is on file with the Commission and open to public inspection. This filing is accessible on-line at: http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Specifically, Columbia Gulf, Tennessee, and Natural propose to abandon in place the following facilities: (i) The segment of 20-inch diameter pipeline owned by Natural, Segment 3991, comprised of approximately 1.58 miles, from Eugene Island Block 331 to Block 314; (ii) the segment of 20-inch diameter pipeline owned by Columbia Gulf, Segment 496, comprised of approximately 3.1 miles, from Eugene Island Block 314 to Block 309; (iii) the segment of 20-inch diameter pipeline jointly owned by Columbia Gulf, Tennessee, and Natural, Segment 5235, comprised of approximately 16.1 miles, from Eugene Island Block 309 to Eugene Island 250B; and (iv) side taps, measurement facilities, and other various appurtenances attached to these facilities and certain non-jurisdictional facilities, located in the Eugene Island Areas 250, 264, 271, 286, 287, 292, 309, 314, and 331, all Offshore Louisiana.

Any questions regarding this application should be directed to Fredric J. George, Lead Counsel, Columbia Gulf Transmission Company, P. O. Box 1273, Charleston, West Virginia 25325-1273, at (304) 357-2359 or fax (304) 357-3206.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see, 18 CFR 385.2001(a)(1)(iii) and the instructions on the Commission's Web site under the “e-Filing” link. The Commission strongly encourages electronic filings.

Comment Date: April 10, 2008.

Kimberly D. Bose,
Secretary.

[FR Doc. E8-6213 Filed 3-26-08; 8:45 am]

BILLING CODE 6717-01-P